DEPARTMENT OF HOMELAND SECURITY

Coast Guard

33 CFR Part 117

[Docket No. USCG-2009-0916]

Drawbridge Operation Regulation; Blackwater River, Milton, FL

AGENCY: Coast Guard, DHS.

ACTION: Notice of temporary deviation from regulations.

SUMMARY: The Commander, Eighth Coast Guard District, has issued a temporary deviation from the regulation governing the operation of the CSX Transportation Railroad swing bridge across the Blackwater River, mile 2.80, at Milton, Florida. The deviation is necessary to replace the center pivot bearing of the swing span and will allow the bridge to remain closed to navigation for two consecutive days.

DATES: This deviation is effective from 7 a.m. on November 5, 2009 through 5 p.m. on November 6, 2009.

ADDRESSES: Documents mentioned in this preamble as being available in the docket are part of docket USCG-2009-0916 and are available online by going to http://www.regulations.gov, inserting USCG-2009-0916 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this proposed rule, call or e-mail Lindsey Middleton, Bridge Administration Branch; telephone 504-671-2128, e-mail Lindsey.R.Middleton@uscg.mil. If you have questions on viewing the docket, call Renee V. Wright, Program Manager, Docket Operations, telephone 202-366-9826.

SUPPLEMENTARY INFORMATION: CSX Transportation has requested a temporary deviation for their railroad swing span bridge across the Blackwater River, mile 2.80, in Milton, Florida. The vertical clearance of the bridge in the closed-to-navigation position is 5.5 feet above mean sea level and 7.0 feet above mean low water. Currently, according to 33 CFR 117.271, the draw of the CSX Transportation Railroad bridge, mile 2.8 at Milton, shall open on signal; except that, from 8 p.m. to 4 a.m., the draw shall open on signal if at least eight hours notice is given. The deviation period will be in effect from 7 a.m. on November 5, 2009 until 5 p.m. on November 6, 2009. During this time the swing span bridge will be closed to navigation for the center pivot bearing of the swing span to be replaced. This work is essential for the continued operation of the draw span. Primary users of this waterway are recreational boaters. The Coast Guard will inform these users through the Local Notice to Mariners. There are no alternate routes available and this bridge cannot be open for emergencies.

In accordance with 33 CFR 117.35(e), the drawbridge must return to its regular operating schedule immediately at the end of the designated time period. This deviation from the operating regulations is authorized under 33 CFR 117.35.

Dated: October 6, 2009.
David M. Frank,
Bridge Administrator.

[FR Doc. E9-25021 Filed 10-16-09; 8:45 am]

BILLING CODE 4910-15-P